ENVIRONMENTAL PROTECTION AGENCY

[EPA-HQ-OAR-2012-0546; FRL-9942-21-OAR]

Contractor Access to Information Claimed as Confidential Business Information Submitted Under Title II of the Clean Air Act and Related to the Renewable Fuel Standard Program

Correction

In notice document 2016-02728, appearing on pages 7095-7096 in the issue of Wednesday, February 10, 2016, make the following correction:

On page 7096, in the first column, in the DATES: section, “FEBRUARY 10, 2021” should read “February 16, 2016”.

[FR Doc. C1-2016-02728 Filed 2-12-16; 8:45 am]

BILLING CODE 1505-01-D